DEPARTMENT OF HEALTH AND HUMAN SERVICES

Health Resources and Services Administration

Office of Rural Health Policy; Statement of Delegation of Authority

On September 8, 2009, the Secretary delegated to the Administrator, Health Resources and Services Administration (HRSA), with authority to redelegate, authorities vested in the Secretary under Title III, Part B, Section 313 of the Public Health Service Act (42 U.S.C. 245), as amended, excluding the authority to issue regulations, to establish advisory councils and committees, and appoint their members, and to submit reports to Congress.

Notice is hereby given that I have delegated to the Associate Administrator and Deputy Associate Administrator, and their successors, Office of Rural Health Policy (ORHP), Health Resources and Services Administration (HRSA), authorities vested in the Administrator under Title III, Part B, Section 313 of the Public Health Service Act (42 U.S.C. 245), as amended, as they pertain to the functions assigned to ORHP.

These authorities may not be redelegated.

This delegation excludes the authority to make awards, to make and issue reports to the President and Congress, to approve and issue regulations, to establish advisory councils and committees and appoint their members, and shall be exercised in accordance with the Department's and HRSA's applicable policies, procedures, and guidelines.

I hereby affirm and ratify any actions taken by the Associate Administrator and Deputy Associate Administrator, Office of Rural Health Policy, or other HRSA officials, which involved the exercise of these authorities prior to the effective date of this delegation.

This delegation is effective upon date of signature.

Dated: November 30, 2009.
Mary K. Wakefield,
Administrator.

[FR Doc. E9-29093 Filed 12-4-09; 8:45 am]

BILLING CODE 4165-15-P